DEPARTMENT OF JUSTICE

Federal Bureau of Investigation

Agency Information Collection Activities; Proposed Collection; Comments Requested

ACTION: Notice of Information Collection Under Review; Existing Collection in use without an OMB control number; National Sex Offender Registry.

The Department of Justice, Federal Bureau of Investigation, has submitted the following information collection request to the Office of Management and Budget (OMB) for review and clearance in accordance with the emergency review procedures of the Paperwork Reduction Act of 1995. OMB approval has been requested by January 24, 2001. The proposed information collection is published to obtain comments from the public and affected agencies. If granted, the emergency approval is only valid for 180 days. Comments should be directed to OMB, Office of Information Regulation Affairs, Attention: Department of Justice Desk Officer (202) 395-6466, Washington, DC 20530.

During the first 60 days of this same review period, a regular review of this information collection is also being undertaken. All comments and suggestions, or questions regarding additional information, to include obtaining a copy of the proposed information collection instrument with instructions, should be directed to Beth Saymon, Acting Unit Chief, Review, Analysis, and Development Unit, Program Development Section, Criminal Justice Information Services Division, Federal Bureau of Investigation, 1000 Custer Hollow Road, Clarksburg, WV 26306.

We request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this collection:

(1) Type of information collection: Existing Collection in use without an OMB control number.

(2) Title of Form/Collection: National Sex Offender Registry

(3) Agency form number, if any, and the applicable component of the Department of Justice sponsoring the collection: Form Number: None. Federal Bureau of Investigation.

(4) Affected public who will be asked or required to respond, as well as a brief abstract: Primary—50 States, 5 territories, the District of Columbia, and registered sex offenders who moved to another state. The National Sex Offender Registry data is collected from the 50 states, 5 territories, and the District of Columbia. In addition registered sex offender must notify the FBI when they move to another state. The state must notify the Federal Bureau of Investigation if they cannot verify the address or locate a person required to register with the states registration program. The registry was established by the FBI in accordance with Federal law (42 U.S.C. 14072) in order to track the whereabouts and movements of persons who have been convicted of a criminal offense against a victim who is a minor; persons who have been convicted of a sexually violent offense; and persons who are sexually violent predators.

(5) An estimate of the total number of respondents and the amount of time estimated for an average respondent to respond: Number of respondents: 56 government entities and 8,400 registered sex offenders annually. The estimated time for the average respondent to respond: 2 minutes per transaction, average 250,000 total transaction per year.

(6) An estimate of the total of public burden (in hours) associated with the collection: Approximately 8,333 total annual burden hours [250,000×2=500,000 minutes/60 minutes.]

If additional information is required contact: Robert B. Briggs, Department Clearance Office, United States Department of Justice, Information Management and Security Staff Justice Management Division, Suite 1220, National Place, 1331 Pennsylvania Avenue NW, Washington, DC 20530.

Dated: January 16, 2001.
Robert B. Briggs,
Department Clearance Officer, United States Department of Justice.

[FR Doc. 01-1846 Filed 1-19-01; 8:45 am]

BILLING CODE 4401-02-M